DEPARTMENT OF HEALTH AND HUMAN SERVICES

Centers for Disease Control and Prevention

[Request for Application AA213]

Building and Strengthening Haiti's National Plan for the Prevention and Treatment of HIV/AIDS, Including Support for the Coordination of a National HIV/AIDS Service Delivery Protocol and New HIV/AIDS Training Initiatives; Notice of Intent To Fund Single Eligibility Award

A. Purpose

The Centers for Disease Control and Prevention (CDC) announces the intent to fund fiscal year (FY) 2005 funds for a cooperative agreement program to provide a funding mechanism for joint activities between CDC and the Haitian Ministry of Health-Ministère de la Santé Publique et de la Population (MSPP) in the area of HIV/AIDS prevention, care and treatment. Joint activities during the project period will focus on strengthening the MSPP's capacity to lead, coordinate and oversee the monitoring and evaluation (M&E) of HIV/AIDS-related health activities, including diagnostic laboratories and programs such as VCT, prevention of mother-to-child transmission (PMTCT), and other care and treatment interventions. These goals will be accomplished through collaboration between the MSPP, CDC Haiti and its partners including, but not limited to, the National Association of State and Territorial AIDS Directors (NASTAD), American Public Health Laboratories (APHL), University Technical Assistance Program (UTAP), International Training and Education Center for HIV/AIDS (ITECH) and local partners. Collaborative activities between CDC and the MSPP are intended to produce measurable improvements in the delivery of public-sector HIV/AIDS services in Haiti.

The Catalog of Federal Domestic Assistance number for this program is 93.067.

B. Eligible Applicant

This is a single eligibility request for application (RFA) from the Haitian MSPP. No other applicants are solicited.

The national public health system in Haiti remains the primary source of care for the majority of the Haitian Population. This system is directly managed by the Haitian Ministry of Health as it is an inherently governmental role to provide a basic level of health care to ensure that a minimum standard of public health is achieved. The MSPP is responsible for the National Strategic Plan for HIV/AIDS in Haiti. This responsibility includes updating the national protocols for care and treatment and as well as national coordination of HIV/AIDS service delivery and training.

It would be inefficient and unsustainable to develop a parallel system outside of the public health system to provide prevention, treatment, and other service delivery solely for HIV/AIDS.

C. Funding

Approximately $11,620,000 is available over a five year project period. $2,324,000 will be available in FY 2005 for a 12-month budget period. The approximate date for the award is September 15, 2005. Funding estimates may change.

D. Where To Obtain Additional Information

For general comments or questions about this announcement, contact: Technical Information Management, CDC Procurement and Grants Office, 2920 Brandywine Road, Atlanta, GA 30341-4146, Telephone: 770-488-2700.

For program technical assistance, contact: Kathy Grooms, CDC Global AIDS Program, 1600 Clifton Road, NE., Mailstop E-04, Atlanta, GA 30333, Telephone: 404-639-8394, E-mail: Kgrooms@cdc.gov.

For financial, grants management, or budget assistance, contact: Vivian Walker, Grants Management Specialist, CDC Procurement and Grants Office, 2920 Brandywine Road, Atlanta, GA 30341, Telephone: 770-488-2724, E-mail: vew4@cdc.gov.

Dated: August 12, 2005.
William P. Nichols,
Director, Procurement and Grants Office, Centers for Disease Control and Prevention.

[FR Doc. 05-16443 Filed 8-18-05; 8:45 am]

BILLING CODE 4163-18-P